DEPARTMENT OF DEFENSE

Office of the Secretary

Advisory Panel on Streamlining and Codifying Acquisition Regulations

AGENCY: Office of the Under Secretary of Defense (Acquisition, Technology, and Logistics), DoD.

ACTION: Notice of Advisory Panel.

SUMMARY: The Department of Defense is publishing this notice to encourage feedback for the Section 809 Advisory Panel on Streamlining and Codifying Acquisition Regulations (hereafter “the Panel”). The Panel meets on a monthly basis and will provide a final report to the Secretary of Defense and Congress in 2019. The agendas, meeting times, and contact information are posted on the Panel Web site: http://www.section809panel.org. Public feedback can be submitted in the “Contact Us” section of the Web site as either general comments or specific recommendations.

FOR FURTHER INFORMATION CONTACT: Shayne L. Martin, Section 809 Panel, 1400 Key Blvd., Suite 210, Arlington, VA 22209, email: shayne.martin@dau.mil, phone: 703-571-2989.

SUPPLEMENTARY INFORMATION: Section 809 of the National Defense Authorization Act for Fiscal Year 2016 (Pub. L. 114-92) required the Secretary of Defense to establish “an advisory panel on streamlining acquisition regulations.” The Panel was seated on August 12, 2016. By Statute, the Panel is exempt from the Federal Advisory Committee Act (5 U.S.C. Appendix). Public information, including opportunities for input, is posted and periodically updated at http://www.section809panel.org.

Dated: October 18, 2017.
Aaron Siegel,
Alternate OSD Federal Register Liaison Officer, Department of Defense.

[FR Doc. 2017-22987 Filed 10-23-17; 8:45 am]

BILLING CODE 5001-06-P